DEPARTMENT OF THE INTERIOR

National Park Service

[NPS-WASO-NAGPRA-16410; PPWOCRADN0-PCU00RP14.R50000]

Notice of Intent To Repatriate Cultural Items: Stephen F. Austin State University, Nacogdoches, TX

AGENCY: National Park Service, Interior.

ACTION: Notice.

SUMMARY: The Stephen F. Austin State University, in consultation with the appropriate Indian tribes or Native Hawaiian organizations, has determined that the cultural items listed in this notice meet the definition of unassociated funerary objects. Lineal descendants or representatives of any Indian tribe or Native Hawaiian organization not identified in this notice that wish to claim these cultural items should submit a written request to the Stephen F. Austin State University. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Stephen F. Austin State University at the address in this notice by October 10, 2014.

ADDRESSES: Dr. Jerry Williams, Stephen F. Austin State University, P.O. Box 13047, SFA Station, Nacogdoches, TX 75962, telephone (936) 468-2306.

SUPPLEMENTARY INFORMATION: Notice is here given in accordance with the Native American Graves Protection and Repatriation Act (NAGPRA), 25 U.S.C. 3005, of the intent to repatriate cultural items under the control of the Stephen F. Austin University, Nacogdoches, TX, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

The Robert L. Turner Jr. Collection contains unassociated funerary objects from twelve sites, all of which are from the Big Cypress Creek Basin except for the Cherokee County site, which is located in the Neches-Angelina River Basin. In 2012, Robert L. Turner Jr. donated unassociated funerary objects to the Stephen F. Austin University (SFA) Archaeological Laboratory. All of the items in this collection came from burial sites, in many cases numbered burials. The human remains from these burials are not present in the collection.

In the late 1920s to early 1940s, 6 cultural items (Perttula et al. 2010a) were removed from the G.W. Rumsey site (41CP3) in Camp County, TX. The 6 unassociated funerary objects are three Ripley Engraved bowls, an incised jar, a plain carinated bowl, and an appliquéd-punctated jar.

Between 1963 and 1967, 399 cultural items (Turner 1978:1) were removed from the Tuck Carpenter site (41CP5) in Camp County, TX. The 399 unassociated funerary objects are 81 vessels, 88 lithics, 2 pipes, 50 shell fragments, 15 animal bones, and 163 miscellaneous sherds.

Between 1963 and 1967, 43 cultural items (Turner 1978:1) were removed from the Tuck Carpenter A site (41CP5), also known as the Wilkison site in Camp County, TX. The 43 unassociated funerary objects are 4 lithics, 6 animal bones, 31 miscellaneous sherds, and 2 other objects.

In 1959, 532 cultural items (Perttula et al. 2010a) were removed from the Harold Williams site (41CP10) in Camp County, TX. The 532 unassociated funerary objects are 18 vessels, 1 lithic, 1 pipe, and 512 miscellaneous sherds.

Between 1966 and 1984, 252 cultural items (Perttula 2010b) were removed from the Johns site (41CP12) in Camp County, TX. The 252 unassociated funerary objects are 62 vessels, 76 lithics, 2 animal bones, 111 miscellaneous sherds, and 1 other object.

In 1958, 8 cultural items (Perttula et al. 2010a:10) were removed from the Graydon Adkins site #2 (41UR17) in Upshur County, TX. The 8 unassociated funerary objects are two bowls, one bottle, one plain carinated bowl, one engraved bowl, one engraved bottle, one punctuated jar, and one plain bowl.

In 1958, 260 cultural items (Perttula et al. 2010a:8) were removed from the B.J. Horton site (41CP20) in Camp County, TX. The 260 unassociated funerary objects are 45 vessels, 53 lithics, and 162 miscellaneous sherds.

Before 1978 (Perttula et al. 2010a:9) 114 cultural items were removed from the Cecil Guest site (41CP78) in Camp County, Texas. The 114 unassociated funerary objects are 19 vessels, 4 lithics, and 91 miscellaneous sherds.

In 1986, 28 cultural items (Perttula et al. 2010a:9) were removed from the Lone Star Lake/Ellison Lake site (41MX65) in Morris County, TX. The 28 unassociated funerary objects are 28 vessels.

In the 1950s, 72 cultural items (Perttula et al. 2010a:9) were removed from the Keith site (41TT11) in Titus County, TX. The 72 unassociated funerary objects are 10 vessels and 62 lithics.

In 1959, 22 cultural items (Perttula et al. 2010a:10) were removed from the Alex Justiss site (41TT13) in Titus County, TX. The 22 unassociated funerary objects are 4 vessels, 17 lithics, and 1 pipe.

In 1958, 3 cultural items (Perttula et al. 2010a:10) were removed from the Graydon Adkins site #1 (41UR21) in Upsur County, TX. The 3 unassociated funerary objects are 3 vessels.

In 1930, 3 cultural items were removed from Cherokee County, TX. According to Robert L. Turner's notes, the vessels from the unknown Cherokee County site originally came from the R.G. Upton Collection. They were found in about 1930 at the “forks of Bowles and White Oak creeks” in west central Cherokee County. The 3 unassociated funerary objects are 3 vessels.

Determinations Made by the Stephen F. Austin University

Officials of the Stephen F. Austin University have determined that:

• Pursuant to 25 U.S.C. 3001(3)(B), the 1,742 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and Caddo Nation of Oklahoma.

Additional Requestors and Disposition

Lineal descendants or representatives of any Indian tribe or Native Hawaiian organization not identified in this notice that wish to claim these cultural items should submit a written request with information in support of the claim to Dr. Jerry Williams, Stephen F. Austin State University, P.O. Box 13047, SFA Station, Nacogdoches, TX 75962, telephone (936) 468-2306, by October 10, 2014. After that date, if no additional claimants have come forward, transfer of control of the unassociated funerary objects to the Caddo Nation of Oklahoma may proceed.

The Stephen F. Austin University is responsible for notifying the Caddo Nation of Oklahoma that this notice has been published.

Dated: August 1, 2014.
Melanie O'Brien,
Acting Manager, National NAGPRA Program.

[FR Doc. 2014-21483 Filed 9-9-14; 8:45 am]

BILLING CODE 4312-50-P